DEPARTMENT OF COMMERCE

International Trade Administration

[C-122-858]

Certain Softwood Lumber From Canada: Preliminary Results of Changed Circumstances Review

AGENCY: Enforcement and Compliance, International Trade Administration, Department of Commerce.

SUMMARY: The U.S. Department of Commerce (Commerce) preliminary determines that a producer/exporter subject to the countervailing duty (CVD) order on certain softwood lumber from Canada, Interfor Sales & Marketing Ltd. (ISM), is cross-owned with Interfor Corporation, EACOM Timber Corporation (EACOM), Chaleur Forest Products Inc., and Chaleur Forest Products LP, four producers/exporters also subject to the countervailing duty (CVD) order on certain softwood lumber from Canada. Interested parties are invited to comment on these preliminary results.

DATES: Applicable January 8, 2025.

FOR FURTHER INFORMATION CONTACT: Elizabeth Talbot Russ, AD/CVD Operations, Office III, Enforcement and Compliance, International Trade Administration, U.S. Department of Commerce, 1401 Constitution Avenue NW, Washington, DC 20230; telephone: (202) 482-5516.

SUPPLEMENTARY INFORMATION:

Background

On January 3, 2018, Commerce published the CVD order on certain softwood lumber from Canada.¹ On May 10, 2024, the petitioner ² requested that Commerce initiate a changed circumstances review (CCR) of the Order, pursuant to section 751(b)(1) of the Tariff Act of 1930, as amended (the Act), 19 CFR 351.216, and 19 CFR 251.221(c)(3).³ Specifically, the petitioner requested that Commerce determine that ISM is cross-owned with EACOM, Chaleur Forest Products Inc., and Chaleur Forest Products LP.⁴ On June 28, 2024, Commerce initiated the requested CCR.⁵

¹ See Certain Softwood Lumber Products from Canada: Amended Final Affirmative Countervailing Duty Determination and Countervailing Duty Order, 83 FR 347 (January 3, 2018) (Order).

² The petitioner is the Committee Overseeing Action for Lumber International Trade Investigations or Negotiations, an ad hoc association whose members are: U.S. Lumber Coalition, Inc.; Collum's Lumber Products, L.L.C.; Fox Lumber Sales, Inc.; Hankins, Inc.; Pleasant River Lumber Company; PotlatchDeltic; S.I. Storey Lumber Co., Inc.; Stimson Lumber Company; Swanson Group; Weyerhaeuser Company; Giustina Land and Timber Company; and Sullivan Forestry Consultants, Inc.

³ See Petitioner's Letter, “Request for Changed Circumstances Review,” dated May 10, 2024.

⁴ Id.

⁵ See Certain Softwood Lumber from Canada: Notice of Initiation of Changed Circumstances Review, 89 FR 53955 (June 28, 2024) (Initiation Notice).

Scope of the Order

The merchandise covered by this Order is softwood lumber, siding, flooring, and certain other coniferous wood (softwood lumber products). For a complete description of the scope, see the Preliminary Decision Memorandum.⁶

⁶ See Memorandum, “Decision Memorandum for the Preliminary Results of the Changed Circumstances Review of the Countervailing Duty Order on Softwood Lumber Products from Canada,” dated concurrently with, and hereby adopted by, this notice (Preliminary Decision Memorandum).

Preliminary Results of Changed Circumstances Review

Pursuant to section 751(b) of the Act, Commerce is conducting a CCR based on a request from an interested party ⁷ that shows changed circumstances sufficient to warrant a review of an order. In accordance with 19 CFR 351.221(b)(4) and (c)(3)(i), we preliminary find that the record contains information indicating that Interfor Corporation, ISM, EACOM, Chaleur Forest Products Inc., and Chaleur Forest Products LP meet the definition of cross-ownership under 19 CFR 351.525(b)(6).

⁷ The petitioner is an ad hoc association and the majority the members of the association are composed of interested parties as described in section 771(9)(C), (D), and (E) of the Act, with respect to a domestic like product.

For a complete discussion of the information that ISM and the petitioner provided and the complete cross-ownership analysis, see the Preliminary Decision Memorandum. A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

Interested parties are invited to comment on the preliminary results of this CCR in accordance with 19 CFR 351.309(c)(1)(ii). Comments may be submitted to Commerce no later than 10 days after the date of publication of this notice.⁸ Rebuttal comments may be filed with Commerce no later than five days after the comments are filed. Interested parties who submit case briefs or rebuttal briefs in this proceeding must submit: (1) a table of contents listing each issue; and (2) a table of authorities.⁹

⁸ Commerce is exercising its discretion under 19 CFR 351.309(c)(1)(ii) to alter the time limit for the filing of case briefs. See 19 CFR 351.309(d)(1).

⁹ See 19 CFR 351.309(c)(2) and (d)(2).

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.¹⁰ Further, we request that interested parties limit their executive summary of each issue to no more than 450 words, not including citations. We intend to use the executive summaries as the basis of the comment summaries included in the issues and decision memorandum that will accompany the final results in this CCR. We request that interested parties include footnotes for relevant citations in the executive summary of each issue. Note that Commerce has amended certain of its requirements pertaining to the service of documents in 19 CFR 351.303(f).¹¹ All submissions must be filed electronically using the Enforcement and Compliance's ACCESS. An electronically filed document must be received successfully in its entirety in ACCESS by 5:00 p.m. Eastern Time on the due date set forth in this notice.

¹⁰ We use the term “issue” here to describe an argument that Commerce would normally address in a comment of the Issues and Decision Memorandum.

¹¹ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS, within ten days of publication of this notice in the Federal Register. Requests should contain: (1) the party's name, address, and telephone number; (2) the number of participants; and (3) a list of issues to be discussed. Issues raised in the hearing will be limited to those raised in the respective case briefs. If a request for a hearing is made, Commerce intends to hold the hearing at a time and date to be determined. Parties should confirm the date and the time of the hearing two days before the scheduled date.

Final Results of the Changed Circumstances Review

Commerce will issue the final results of this CCR, which will include its analysis of any written comments, no later than 270 days after the date on which this review was initiated.¹² The current requirement for cash deposits of estimated countervailing duties on all entries of subject merchandise will not change as the result of this preliminary CCR determination. As noted in the Initiation Notice and Preliminary Decision Memorandum, the purpose of this CCR does not include identifying the applicable cash deposit rates, but rather making determinations of cross-ownership. Furthermore, we note that Interfor Corporation, ISM, EACOM, Chaleur Forest Products Inc., and Chaleur Forest Products LP are all already receiving the same cash deposit rate assigned to non-selected companies.¹³

¹² See 19 CFR 351.216(e).

¹³ See Certain Softwood Lumber Products from Canada: Final Results and Final Rescission, in Part, of the Countervailing Duty Administrative Review; 2021, 88 FR 50103 (August 1, 2023).

Notification to Interested Parties

These preliminary results of a CCR and this notice are published in accordance with sections 751(b) and 777(i) of the Act and 19 CFR 351.216, and 19 CFR 351.221(c)(3).

Dated: December 31, 2024.
Abdelali Elouaradia,
Deputy Assistant Secretary for Enforcement and Compliance.

Appendix

List of Topics Discussed in the Preliminary Decision Memorandum

I. Summary

II. Background

III. Scope of the Order

IV. Preliminary Determination of Cross-Ownership

V. Recommendation

[FR Doc. 2025-00189 Filed 1-7-25; 8:45 am]

BILLING CODE 3510-DS-P